DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Capital Metropolitan Transportation Authority

[Docket Number FRA-2006-25040]

Capital Metropolitan Transportation Authority (CMTA), located in Austin, TX, seeks a permanent waiver of compliance from Title 49 of the CFR for operation of a new planned Commuter Rail Service (CRS), partially sharing trackage with the Austin Area Terminal Railroad (AUAR), a common carrier freight railroad. The operation will feature temporal separation of CRS and AUAR operations. CMTA has selected a light rail style, non-FRA compliant Diesel-Multiple Unit (DMU), in order to offer a “one-seat ride” operation on both the shared and light rail-exclusive city street running portions of the system. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

CMTA is constructing a 32-mile CRS, (27 miles shared, 5 miles light rail-exclusive) linking the City of Leander, TX, with downtown Austin, TX. CMTA owns the railroad right-of-way, referred to as the Central Sub-division of the AUAR, between MP 55.19DT (Austin) and MP 88.0 (Leander), and will utilize temporal separation of freight and passenger operations on this shared trackage. AUAR provides freight service to on-line customers, as well as interchanges with Union Pacific (UPRR) and BNSF Railway at MP 71.45.

Based on the foregoing, CMTA is seeking waiver of compliance from the provisions of the Federal Railroad Locomotive Safety Standards, 49 CFR: Part 219 Drug and Alcohol; Part 221 Rear End Marking Devices; Part 223 Safety Glazing Standards; Part 225 Accident and Incident Reporting; Part 229 Railroad Locomotive Safety Standards; Part 231 Railroad Safety Appliance Standards; Part 238 Passenger Equipment Safety Standards; Part 239 Passenger Train Emergency Preparedness; Part 240 Qualification and Certification of Locomotive Engineers.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2006-25040) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on August 1, 2006.
Grady C. Cothen, Jr.,
Deputy Associate Administrator for Safety Standards and Program Development.

[FR Doc. E6-12799 Filed 8-7-06; 8:45 am]

BILLING CODE 4910-06-P